DEPARTMENT OF TRANSPORTATION

Coast Guard

33 CFR Part 117

[CGD07-02-070]

Drawbridge Operation Regulations; Atlantic Intracoastal Waterway, Mile 1074.0 at Hallandale Beach, Broward County, FL

AGENCY: Coast Guard, DOT.

ACTION: Notice of temporary deviation from regulations.

SUMMARY: The Commander, Seventh Coast Guard District, has approved a temporary deviation from the regulations governing the operation of the New Hallandale Beach Boulevard bridge, mile 1074.0 at Hallandale Beach, Florida. This deviation allows this bridge to only open a single-leaf from July 1, 2002, to August 29, 2002. This action is necessary to facilitate workers' safety during construction of the new bridge.

DATES: This deviation is effective from 12:01 a.m. on July 1, 2002, until 11 p.m. on August 29, 2002.

ADDRESSES: Material received from the public, as well as documents indicated in this preamble as being available in the docket, will become part of this docket and will be available for inspection or copying at Commander (obr), Seventh Coast Guard District, 909 SE. 1st Avenue, Room 432, Miami, FL 33131 between 7:30 a.m. and 4 p.m., Monday through Friday, except Federal holidays.

FOR FURTHER INFORMATION CONTACT: Mr. Michael Lieberum, Project Officer, Seventh Coast Guard District, Bridge Section at (305) 415-6744.

SUPPLEMENTARY INFORMATION: The Hallandale Beach Boulevard (SR 824) bridge, mile 1074.0 at Hallandale Beach, Broward County, Florida will continue to operate on schedule. The existing operating regulations in 33 CFR 117.261 (kk) require the bridge to open on signal; except that, from 7:15 a.m. to 6:15 p.m., the draw need open only on the quarter hour and three-quarter hour. The new Hallandale Beach Boulevard bridge, mile 1074.0 at Hallandale Beach, Broward County, Florida will be erected in the down position. When the first leaf is installed it will provide a horizontal clearance of 60 feet between the down span and the fender system.

The contractors notified the Coast Guard on May 28, 2002, that the work on the new bascule leaves would start on July 1, 2002, and due to a safety issue involving welding deck plates, and pouring concrete, they requested that the new bascule bridge be able to only open a single-leaf of the bridge from July 1, 2002 until August 29, 2002. This action will not significantly hinder navigation, as a horizontal clearance of 60 feet will be available during the construction.

The District Commander has granted a temporary deviation from the operating requirements listed in 33 CFR 117.5 to construct the new drawbridge. Under this deviation, the New Hallandale Beach Boulevard bridge, mile 1074.0 at Hallandale Beach, need only open a single-leaf from 12:01 a.m. on July 1, 2002, until 10 p.m. on August 29, 2002.

Dated: June 18, 2002.
Greg Shapley,
Chief, Bridge Administration Branch, Seventh Coast Guard District.

[FR Doc. 02-16238 Filed 6-26-02; 8:45 am]

BILLING CODE 4910-15-P